DEPARTMENT OF THE INTERIOR

National Park Service

30-Day Notice of Submission to the Office of Management and Budget (OMB); Opportunity for Public Comment

AGENCY: Department of the Interior, National Park Service.

ACTION: Notice and request for comments.

SUMMARY: Under the provisions of the Paperwork Reduction Act of 1995 and 5 CFR Part 1320, Reporting and Recordkeeping Requirements, the National Park Service (NPS) invites public comments on a reinstatement, with change, of a previously approved collection of information for which approval has expired (OMB #1024-0216).

DATES: Public comments on this Information Collection Request (ICR) will be accepted on or before September 4, 2008.

ADDRESSES: You may submit comments directly to the Desk Officer for the Department of the Interior (OMB #1024-XXXX), Office of Information and Regulatory Affairs, OMB, by fax at 202/395-6566, or by electronic mail at oira_docket@omb.eop.gov. Please also send a copy of your comments to Jennifer Hoger Russell, Park Studies Unit, College of Natural Resources, University of Idaho, P.O. Box 44139, Moscow, ID 83844-1139; Phone: 208/885-4806; Fax: 208/885-4261; E-mail: jhoger@uidaho.edu.

FOR FURTHER INFORMATION CONTACT: Dr. James Gramann, NPS Social Science Program, 1201 “Eye” St., Washington, DC 20005; or via phone at 202/513-7189; or via e-mail at James_Gramann@partner.nps.gov. You are entitled to a copy of the entire ICR package free-of-charge. You may access this ICR at http://www.reginfo.gov/public/.

Comments Received on the 60-Day Federal Register Notice: The NPS published a 60-day notice to solicit public comments on this ICR in the Federal Register on May 13, 2008 (Vol. 73, No. 93, Page 27553-27554). The comment period closed on July 14, 2008. After notification to stakeholders requesting comments, the NPS received one comment as a result of the publication of this 60-day Federal Register notice.

The commenter suggested that the program should be shut-down to avoid wasteful spending. The NPS replied to the comment, indicating that the VSC Project is how the NPS complies with the Government Performance and Results Act of 1993. In compliance with this law, the NPS implemented the project in 1998. The project continues to be the only source of visitor satisfaction information across the entire system on an annual basis. Parks collect valuable information about visitor satisfaction with facilities, services, and recreational opportunities available at all the NPS sites across the country, Guam, Puerto Rico, and the Virgin Islands.

SUPPLEMENTARY INFORMATION:

Title: National Park Service Visitor Survey Card.

Bureau Form Number: None.

OMB Number: 1024-0216.

Expiration Date: To be requested.

Type of Request: Reinstatement, with change, of a previously approved collection of information for which approval has expired.

Description of Need: The National Park Service (NPS) Act of 1916, 38 Stat 535, 16 U.S.C. 1, et seq., requires that the NPS preserve national parks for the use and enjoyment of present and future generations. At the field level, this means resource preservation, public education, facility maintenance and operation, and physical developments as are necessarily for public use, health, and safety. Other federal rules (National Environmental Policy Act, 1969 and NPS Management Policies) require visitor use data in the impact assessment of development on users and resources as part of each park's general management plan. The Government Performance and Results Act (GPRA) of 1993 (Pub. L. 103-62) requires that the NPS develop goals to improve program effectiveness and public accountability and to measure performance related to these goals. The Visitor Survey Card (VSC) Project measures performance toward those goals through a short visitor survey card. The project is an element of the NPS Strategic Plan and the Department of the Interior (DOI) Strategic Plan.

The NPS has used the VSC to conduct surveys at approximately 330 National Park System units annually since 1998. The purpose of the VSC is to measure visitors' opinions about park facilities, services, and recreational opportunities in each park unit and System wide. This effort is required by GPRA and other NPS and DOI strategic planning efforts. Data from the proposed survey is needed to assess performance regarding NPS GPRA goals IIa1 and IIb1.

The relevant NPS GPRA goals state:

II. Provide for the public enjoyment and visitor experience of parks;

IIa1. 95% of park visitors are satisfied with appropriate park facilities, services, and recreational opportunities;

IIb1. 86% of park visitors understand and appreciate the significance of the park they are visiting.

In addition, the survey collects data to support the DOI Strategic Plan goal on visitor satisfaction with the value for entrance fees paid to access public lands managed by the DOT. NPS performance on all goals measured in this study will contribute to DOT Department-wide performance reports. Results of the VSC will also be used by park managers to improve visitor services at the approximately 330 units of the National Park System where the survey is administered.

The VSC is a component of the Visitors Services Project, which is funded by the NPS through a cooperative agreement with the Park Studies Unit at the University of Idaho. In 1998, the NPS received clearance for the Visitor Survey Card (OMB #1024-0216). When that three-year clearance expired on May31, 2001, a new clearance was acquired under the Programmatic Approval for NPS-Sponsored Public Surveys (1024-0224, NPS #01-003). Clearance was again acquired in 2005 under Programmatic Approval for NPS-Sponsored Public Surveys (1024-0224, NPS #05-004). This request is another extension of the on-going study. The obligation to respond is voluntary.

Automated Data Collections: This information will be collected via mail-back surveys and on-site drop-off surveys using locked collection boxes. No automated data collection will take place.

Description of Respondents: Visitors to approximately 330 NPS units.

Estimated Average Number of Respondents: 132,000 respondents (94,000 non-respondents and 38,000 respondents).

Estimated Average Number of Responses: 132,000 responses (94,000 non-responses and 38,000 responses).

Estimated Average Burden Hours per Response: 1 minute for non-respondents and3 minutes for respondents.

Frequency of Response: 1 time per respondent.

Estimated Total Annual Reporting Burden: 3,467 hours.

Comments Are Invited On: (1) The practical utility of the information being gathered; (2) the accuracy of the burden hour estimate; (3) ways to enhance the quality, utility, and clarity of the information being gathered; and (4) ways to minimize the burden to respondents, including use of automated information collection techniques or other forms of information. Before including your address, phone number, e-mail address, or other personal identifying infonnation in your comment, you should be aware that your entire comment—including your personal identifying information—may be made publicly available at any time. While you can ask OMB in your comment to withhold your personal identifying information from public review, we cannot guarantee that OMB will be able to do so.

Dated: July 2, 2008.
Leonard E. Stowe,
NPS, Information Collection Clearance Officer.

[FR Doc. E8-17785 Filed 8-4-08; 8:45 am]

BILLING CODE 4312-52-M